DEPARTMENT OF ENERGY

Federal Energy Regulatory Commission

Combined Notice of Filings #1

Take notice that the Commission received the following electric corporate filings:

Docket Numbers: EC15-189-000.

Applicants: Prairie Breeze Wind Energy LLC, Prairie Breeze Wind Energy II LLC, Prairie Breeze Wind Energy III LLC.

Description: Application for Authorization Under Section 203 of the Federal Power Act and Request for Waivers and Expedited Action of Prairie Breeze Wind Energy LLC, et al.

Filed Date: 8/14/15.

Accession Number: 20150814-5147.

Comments Due: 5 p.m. ET 9/4/15.

Take notice that the Commission received the following exempt wholesale generator filings:

Docket Numbers: EG15-115-000.

Applicants: Pavant Solar, LLC.

Description: Notice of Self-certification of Exempt Wholesale Generator Status of Pavant Solar, LLC.

Filed Date: 8/14/15.

Accession Number: 20150814-5081.

Comments Due: 5 p.m. ET 9/4/15.

Docket Numbers: EG15-116-000.

Applicants: Latigo Wind Park, LLC.

Description: Notice of Self-Certification of Exempt Wholesale Generator Status of Latigo Wind Park, LLC under EG15-116.

Filed Date: 8/14/15.

Accession Number: 20150814-5173.

Comments Due: 5 p.m. ET 9/4/15.

Take notice that the Commission received the following electric rate filings:

Docket Numbers: ER10-2137-013; ER14-2798-005; ER14-2799-005; ER12-161-012; ER12-164-012; ER15-1873-002; ER12-645-014; ER10-2130-013; ER10-2131-013; ER10-2138-013; ER10-2139-013; ER10-2140-013; ER10-2141-013; ER14-2187-007; ER11-4044-014; ER11-4046-013; ER10-2129-010; ER10-2134-010; ER10-2136-011; ER15-103-004; ER10-2127-012; ER10-2125-013; ER14-25-009; ER15-1041-002; ER10-2133-013; ER10-2135-010; ER10-2124-012; ER11-3872-014; ER10-2132-012; ER10-2128-012; ER10-2764-012.

Applicants: Beech Ridge Energy LLC, Beech Ridge Energy II LLC, Beech Ridge Energy Storage LLC, Bishop Hill Energy LLC, Bishop Hill Energy III LLC, Buckeye Wind Energy LLC, California Ridge Wind Energy LLC, Forward Energy LLC, Grand Ridge Energy LLC, Grand Ridge Energy II LLC, Grand Ridge Energy III LLC, Grand Ridge Energy IV LLC, Grand Ridge Energy V LLC, Grand Ridge Energy Storage LLC, Gratiot County Wind LLC, Gratiot County Wind II LLC, Grays Harbor Energy LLC, Hardee Power Partners Limited, Invenergy Cannon Falls LLC, Invenergy Nelson LLC, Invenergy TN LLC, Judith Gap Energy LLC, Prairie Breeze Wind Energy LLC, Prairie Breeze Wind Energy II LLC, Sheldon Energy LLC, Spindle Hill Energy LLC, Spring Canyon Energy LLC, Stony Creek Energy LLC, Willow Creek Energy LLC, Wolverine Creek Energy LLC, Vantage Wind Energy LLC.

Description: Notification of Change in Facts of Beech Ridge Energy LLC, et al.

Filed Date: 8/14/15.

Accession Number: 20150814-5186.

Comments Due: 5 p.m. ET 9/4/15.

Docket Numbers: ER15-517-003.

Applicants: ISO New England Inc., Cross-Sound Cable Company, LLC.

Description: Compliance filing: Standards for Bus Prac & Comm Protocols Cross Sound Cable Errata Filing to be effective 5/15/2015.

Filed Date: 8/14/15.

Accession Number: 20150814-5130.

Comments Due: 5 p.m. ET 8/24/15.

Docket Numbers: ER15-2441-000.

Applicants: California Independent System Operator Corporation.

Description: Section 205(d) Rate Filing: 2015-8-13_Implement Reliability Coordinator Charges Settlement Process to be effective 10/15/2015.

Filed Date: 8/13/15.

Accession Number: 20150813-5219.

Comments Due: 5 p.m. ET 9/3/15.

Docket Numbers: ER15-2442-000.

Applicants: ITC Midwest LLC.

Description: Section 205(d) Rate Filing: Filing of CIAC Agreement with Maquoketa Valley to be effective 10/12/2015.

Filed Date: 8/13/15.

Accession Number: 20150813-5223.

Comments Due: 5 p.m. ET 9/3/15.

Docket Numbers: ER15-2443-000.

Applicants: ISO New England Inc.

Description: ISO New England Inc. submits Second Quarter 2015 Capital Budget Report.

Filed Date: 8/13/15.

Accession Number: 20150813-5248.

Comments Due: 5 p.m. ET 9/3/15.

Docket Numbers: ER15-2444-000.

Applicants: Idaho Power Company.

Description: Idaho Power Company submits Average System Cost Filing for Sales of Electric Power to the Bonneville Power Administration, FY 2016-2017.

Filed Date: 8/13/15.

Accession Number: 20150813-5249.

Comments Due: 5 p.m. ET 9/3/15.

Docket Numbers: ER15-2445-000.

Applicants: Puget Sound Energy, Inc.

Description: Puget Sound Energy, Inc. submits Average System Cost Filing for Sales of Electric Power to the Bonneville Power Administration, FY 2016-2017.

Filed Date: 8/13/15.

Accession Number: 20150813-5250.

Comments Due: 5 p.m. ET 9/3/15.

Docket Numbers: ER15-2446-000.

Applicants: Midcontinent Independent System Operator, Inc.

Description: Section 205(d) Rate Filing: 2015-08-14_SA 2828 MidAmerican Energy-Farmers City Wind GIA (R26) to be effective 8/15/2015.

Filed Date: 8/14/15.

Accession Number: 20150814-5067.

Comments Due: 5 p.m. ET 9/4/15.

Docket Numbers: ER15-2447-000.

Applicants: Midcontinent Independent System Operator, Inc., Union Electric Company.

Description: Compliance filing: 2015-08-14_Union Electric Depreciation Rate Compliance Filing to be effective 6/1/2015.

Filed Date: 8/14/15.

Accession Number: 20150814-5082.

Comments Due: 5 p.m. ET 9/4/15.

Docket Numbers: ER15-2448-000.

Applicants: Prairie Breeze Wind Energy II LLC.

Description: Section 205(d) Rate Filing: Filing of Assignment, Co-Tenancy, and Shared Facilities Agreement to be effective 8/15/2015.

Filed Date: 8/14/15.

Accession Number: 20150814-5125.

Comments Due: 5 p.m. ET 9/4/15.

Docket Numbers: ER15-2449-000.

Applicants: Prairie Breeze Wind Energy III LLC.

Description: Section 205(d) Rate Filing: Filing of Assignment, Co-Tenancy, and Shared Facilities Agreement to be effective 8/15/2015.

Filed Date: 8/14/15.

Accession Number: 20150814-5126.

Comments Due: 5 p.m. ET 9/4/15.

Docket Numbers: ER15-2450-000.

Applicants: Prairie Breeze Wind Energy LLC.

Description: Section 205(d) Rate Filing: Filing of Assignment, Co-Tenancy, and Shared Facilities Agreement to be effective 8/15/2015.

Filed Date: 8/14/15.

Accession Number: 20150814-5128.

Comments Due: 5 p.m. ET 9/4/15.

Docket Numbers: ER15-2451-000.

Applicants: Maine Electric Power Company, Inc.

Description: Section 205(d) Rate Filing: Construction Agreement between MEPCO and Number Nine Wind Farm LLC to be effective 8/13/2015.

Filed Date: 8/14/15.

Accession Number: 20150814-5129.

Comments Due: 5 p.m. ET 9/4/15.

Docket Numbers: ER15-2452-000.

Applicants: Southwest Power Pool, Inc.

Description: Section 205(d) Rate Filing: Revisions to Attachment AE Section 3.9 Net Benefit Test Clean-up to be effective 3/1/2015.

Filed Date: 8/14/15.

Accession Number: 20150814-5179.

Comments Due: 5 p.m. ET 9/4/15.

Docket Numbers: ER15-2453-000.

Applicants: Passadumkeag Windpark, LLC.

Description: Baseline eTariff Filing: Application for Market Based Rate Authority and Request for Waivers to be effective 9/18/2015.

Filed Date: 8/14/15.

Accession Number: 20150814-5182.

Comments Due: 5 p.m. ET 9/4/15.

Docket Numbers: ER15-2454-000.

Applicants: Otter Tail Power Company.

Description: Section 205(d) Rate Filing: Filing of Certificate of Concurrence—TCRA to be effective 9/1/2015.

Filed Date: 8/14/15.

Accession Number: 20150814-5218.

Comments Due: 5 p.m. ET 9/4/15.

Docket Numbers: ER15-2455-000.

Applicants: Koch Energy Services, LLC.

Description: Baseline eTariff Filing: Application for Market-Based Rate Authorization to be effective 10/1/2015.

Filed Date: 8/14/15.

Accession Number: 20150814-5221.

Comments Due: 5 p.m. ET 9/4/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 14, 2015.
Kimberly D. Bose,
Secretary.

[FR Doc. 2015-20575 Filed 8-19-15; 8:45 am]

BILLING CODE 6717-01-P